DEPARTMENT OF DEFENSE

Office of the Secretary

Renewal of Department of Defense Federal Advisory Committees

AGENCY: Department of Defense.

ACTION: Renewal of federal advisory committee.

SUMMARY: Under the provisions of the Federal Advisory Committee Act of 1972 (5 U.S.C. Appendix, as amended), the Government in the Sunshine Act of 1976 (5 U.S.C. 552b, as amended), and 41 CFR 102-3.65, the Department of Defense gives notice that it is renewing the charter for the Transformation Advisory Group (hereafter referred to as the Group).

The Group is a discretionary federal advisory committee established to provide the Secretary of Defense, through the Chairman of the Joint Chiefs of Staff and the Commander, U.S. Joint Forces Command, independent advice and recommendations on strategic, scientific technical, intelligence and policy-related issues to the Nation's joint enterprise, and U.S. Joint Forces Command, with emphasis on how these issues relate to the shaping of the command's efforts today and in the future.

The Group shall be composed of no more than twenty four members who are recognized experts and leaders in their fields. These areas of expertise include, but are not limited to, innovation, development, strategic communications, logistics, technologies, business practices, military, government, education, training, intelligence and appropriations. The Secretary of Defense shall appoint group members, and their appointments will be renewed on an annual basis.

Group Members appointed by the Secretary of Defense, who are not full-time or permanent part-time federal employees, are appointed as experts and consultants under the authority of 5 U.S.C. 3109, and shall serve as Special Government employees. Pursuant to 10 U.S.C. 1114(a)(3), the members shall serve with the exception of travel and per diem for official travel without compensation. The Chairperson of the Group shall be designated by the Commander, U.S. Joint Forces Command, on behalf of the Secretary of Defense.

The Group is authorized to establish Subcommittees, as necessary and consistent with its mission, and these Subcommittees shall operate under the provisions of the Federal Advisory Committee Act, the Government in the Sunshine Act of 1976, and other appropriate federal regulations.

Such Subcommittees shall not work independently of the chartered Group, and shall report their recommendations and advice to the Group for full deliberation and discussion. Subcommittees have no authority to make decisions on behalf of the chartered Group nor can they report directly to the Department of Defense or any Federal officers or employees who are not Group Members.

FOR FURTHER INFORMATION CONTACT: Contact Jim Freeman, Deputy Committee Management Officer for the Department of Defense, 703-601-6128.

SUPPLEMENTARY INFORMATION: The Group shall meet at the call of the Board's Designated Federal Officer, in consultation with the Group's Chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Transformation Advisory Group membership about the Group's mission and functions. Written statements may be submitted at any time or in response to the stated agenda of planned meeting of the Transformation Advisory Group.

All written statements shall be submitted to the Designated Federal Officer for the Transformation Advisory Group, and this individual will ensure that the written statements are provided to the membership for their consideration. Contact information for the Transformation Advisory Group's Designated Federal Officer can be obtained from the GSA's FACA Database— https://www.fido.gov/facadatabase/public.asp.

The Designated Federal Officer, pursuant to 41 CFR 102-3.150, will announce planned meetings of the Transformation Advisory Group. The Designated Federal Officer, at that time, may provide additional guidance on the submission of written statements that are in response to the stated agenda for the planned meeting in question.

Dated: January 12, 2009.
Patricia L. Toppings,
OSD Federal Register Liaison Officer, Department of Defense.

[FR Doc. E9-879 Filed 1-15-09; 8:45 am]

BILLING CODE 5001-06-P